DEPARTMENT OF THE TREASURY

Alcohol and Tobacco Tax and Trade Bureau

27 CFR Part 9

[TTB Notice No. 22; Re: TTB Notice No. 15]

RIN 1513-AA41

Proposed Eola Hills Viticultural Area (2002R-216P)

AGENCY: Alcohol and Tobacco Tax and Trade Bureau (TTB), Treasury.

ACTION: Notice of proposed rulemaking; extension of comment period.

SUMMARY: We are extending the comment period for TTB Notice No. 15, a notice of proposed rulemaking published in the Federal Register on September 8, 2003, for an additional 60 days. The proposed rule would amend our regulations to add Eola Hills as an approved American viticultural area in Oregon. We are acting on a request to extend the comment period submitted on behalf of the Eola Hills Wine Cellars of Salem, Oregon.

DATES: We must receive written comments on or before January 6, 2004.

ADDRESSES: You may send comments to any of the following addresses—

• Chief, Regulations and Procedures Division, Alcohol and Tobacco Tax and Trade Bureau, P.O. Box 50221, Washington, DC 20091-0221 (Attn: Notice No. 15);

• 202-927-8525 (facsimile);

• nprm@ttb.gov (e-mail); or

• http://www.ttb.gov (An online comment form is posted with Notice No. 15 on our Web site).

You may view copies of the petition, the notice of proposed rulemaking, the appropriate maps, and any comments we receive by appointment at our library, 1310 G Street, NW., Washington, DC 20005; phone 202-927-8210. You may also access copies of the notice and comments on our Web site at http://www.ttb.gov.

FOR FURTHER INFORMATION CONTACT: Jennifer Berry, Regulations and Procedures Division, Alcohol and Tobacco Tax and Trade Bureau, P.O. Box 18152, Roanoke, Virginia 24014; telephone 540-344-9333; e-mail Jennifer.Berry@ttb.treas.gov.

SUPPLEMENTARY INFORMATION:

Background

On September 8, 2003, the Alcohol and Tobacco Tax and Trade Bureau (TTB) published a notice of proposed rulemaking (Notice No. 15, 68 FR 52875) to establish “Eola Hills” as an American viticultural area in Oregon. The comment period was to end November 7, 2003.

We have, however, received a request for a 60-day extension of the comment period from Kevin Crawford, an attorney representing a winery with a similar name to that of the proposed viticultural area, Eola Hills Wine Cellars Inc. of Salem, Oregon. Mr. Crawford requested the extension to allow his client more time to gather evidence to support its comment. In consideration of this request, and in light of the impact that the approval of the proposed Eola Hills viticultural area may have on the Eola Hills Wine Cellars' wine labels, we are extending the comment period for an additional 60 days.

Public Participation

See the “Public Participation” section of TTB Notice No. 15 for detailed instructions on submitting and reviewing comments. We will carefully consider comments received on or before the new closing date.

We will not recognize any submitted material as confidential. All comments are part of the public record and subject to disclosure. Do not enclose in your comments any material you consider confidential or inappropriate for disclosure. The name of the person submitting a comment is not exempt from disclosure.

Drafting Information

Jennifer Berry of the Regulations and Procedures Division, Alcohol and Tobacco Tax and Trade Bureau, drafted this notice.

List of Subjects in 27 CFR Part 9

Wine.

Authority and Issuance

TTB Notice No. 15 was issued under the authority of 27 U.S.C. 205.

Signed: November 4, 2003.
Arthur J. Libertucci,
Administrator.

[FR Doc. 03-28062 Filed 11-6-03; 8:45 am]

BILLING CODE 4810-31-P